DEPARTMENT OF TRANSPORTATION

Office of the Secretary

Aviation Proceedings, Agreements Filed During the Week Ending January 4, 2002

The following Agreements were filed with the Department of Transportation under the provisions of 49 U.S.C. sections 412 and 414. Answers may be filed within 21 days after the filing of the application.

Docket Number: OST-2002-11268.

Date Filed: January 3, 2002.

Parties: Members of the International Air Transport Association.

Subject: Mail Vote 191—Resolution 011a.

Mileage Manual Non-TC Member/Non-IATA Carrier Sectors (Amending).

Intended effective date: 1 February 2002 for implementation 1 April 2002.

Dorothy Y. Beard,
Federal Register Liaison.

[FR Doc. 02-1258 Filed 1-16-02; 8:45 am]

BILLING CODE 4910-62-P